DEPARTMENT OF THE INTERIOR

Fish and Wildlife Service

50 CFR Part 17

[FF09E21000 FXES1111090FEDR 234]

Endangered and Threatened Wildlife and Plants; 90-Day Findings for 4 Species

AGENCY: Fish and Wildlife Service, Interior.

ACTION: Notification of petition findings and initiation of status reviews.

SUMMARY: We, the U.S. Fish and Wildlife Service (Service), announce 90-day findings on petitions to add four species to the Lists of Endangered and Threatened Wildlife and Plants under the Endangered Species Act of 1973, as amended (Act). Based on our review, we find that the petitions to list the common hippopotamus (Hippopotamus amphibius), Morro Bay polyphyllan scarab beetle (Polyphylla morroensis), Inyo rock daisy (Perityle inyoensis; synonym Laphamia inyoensis), and roughhead shiner (Notropis semperasper) present substantial scientific or commercial information indicating that the petitioned actions may be warranted. Therefore, with the publication of this document, we announce that we are initiating status reviews of these species to determine whether the petitioned actions are warranted. To ensure that the status reviews are comprehensive, we request scientific and commercial data and other information regarding the species and factors that may affect their status. Based on the status reviews, we will issue 12-month petition findings, which will address whether or not the petitioned actions are warranted, in accordance with the Act.

DATES: These findings were made on March 21, 2023. As we commence our status reviews, we seek any new information concerning the status of, or threats to, the common hippopotamus, Morro Bay polyphyllan scarab beetle, Inyo rock daisy, and roughhead shiner, or their habitats. Any information we receive during the course of our status reviews will be considered.

ADDRESSES:

Supporting documents: Summaries of the basis for the petition findings contained in this document are available on https://www.regulations.gov under the appropriate docket number (see table under SUPPLEMENTARY INFORMATION). In addition, this supporting information is available by contacting the appropriate person, as specified in FOR FURTHER INFORMATION CONTACT.

Status reviews: If you have new scientific or commercial data or other information concerning the status of, or threats to, the common hippopotamus, Morro Bay polyphyllan scarab beetle, Inyo rock daisy, and roughhead shiner, or their habitats, please provide those data or information by one of the following methods:

(1) Electronically: Go to the Federal eRulemaking Portal: https://www.regulations.gov. In the Search box, enter the appropriate docket number (see table under SUPPLEMENTARY INFORMATION). Then, click on the “Search” button. After finding the correct document, you may submit information by clicking on “Comment.” If your information will fit in the provided comment box, please use this feature of https://www.regulations.gov, as it is most compatible with our information review procedures. If you attach your information as a separate document, our preferred file format is Microsoft Word. If you attach multiple comments (such as form letters), our preferred format is a spreadsheet in Microsoft Excel.

(2) By hard copy: Submit by U.S. mail to: Public Comments Processing, Attn: [Insert appropriate docket number; see table under SUPPLEMENTARY INFORMATION], U.S. Fish and Wildlife Service, MS: PRB/3W, 5275 Leesburg Pike, Falls Church, VA 22041-3803.

We request that you send information only by the methods described above. We will post all information we receive on https://www.regulations.gov. This generally means that we will post any personal information you provide us (see Information Submitted for a Status Review, below).

FOR FURTHER INFORMATION CONTACT:

Species common name | Contact person
Common hippopotamus | Bridget Fahey, Chief, Division of Conservation and Classification, 703-358-2163, bridget_fahey@fws.gov.
Morro Bay polyphyllan scarab beetle | Catherine Darst, Assistant Field Supervisor, Ventura Fish and Wildlife Office, 805-677-3318, cat_darst@fws.gov.
Inyo rock daisy | Scott Sobiech, Field Supervisor, Carlsbad Fish and Wildlife Office, 760-431-9440, scott_sobiech@fws.gov.
Roughhead shiner | Matt Hinderliter, Regional Listing Coordinator, Northeast Regional Office, 413-253-8240, matthew_hinderliter@fws.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Information Submitted for a Status Review

You may submit your comments and materials concerning the status of, or threats to the common hippopotamus, Morro Bay polyphyllan scarab beetle, Inyo rock daisy, and roughhead shiner, or their habitats, by one of the methods listed above in ADDRESSES. We request that you send comments only by the methods described in ADDRESSES. Please include sufficient information with your submission (such as scientific journal articles or other publications) to allow us to verify any scientific or commercial information you include.

If you submit information via https://www.regulations.gov, your entire submission—including any personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing these findings, will be available for public inspection on https://www.regulations.gov.

Background

Section 4 of the Act (16 U.S.C. 1533) and its implementing regulations in title 50 of the Code of Federal Regulations (50 CFR part 424) set forth the procedures for adding species to, removing species from, or reclassifying species on the Federal Lists of Endangered and Threatened Wildlife and Plants (Lists or List) in 50 CFR part 17. Section 4(b)(3)(A) of the Act requires that we make a finding on whether a petition to add a species to the List (i.e., “list” a species), remove a species from the List (i.e., “delist” a species), or change a listed species' status from endangered to threatened or from threatened to endangered (i.e., “reclassify” a species) presents substantial scientific or commercial information indicating that the petitioned action may be warranted. To the maximum extent practicable, we are to make this finding within 90 days of our receipt of the petition and publish the finding promptly in the Federal Register.

Our regulations establish that substantial scientific or commercial information with regard to a 90-day petition finding refers to credible scientific or commercial information in support of the petition's claims such that a reasonable person conducting an impartial scientific review would conclude that the action proposed in the petition may be warranted (50 CFR 424.14(h)(1)(i)). A positive 90-day petition finding does not indicate that the petitioned action is warranted; the finding indicates only that the petitioned action may be warranted and that a full review should occur.

A species may be determined to be an endangered species or a threatened species because of one or more of the five factors described in section 4(a)(1) of the Act (16 U.S.C. 1533(a)(1)). The five factors are:

(a) The present or threatened destruction, modification, or curtailment of its habitat or range (Factor A);

(b) Overutilization for commercial, recreational, scientific, or educational purposes (Factor B);

(c) Disease or predation (Factor C);

(d) The inadequacy of existing regulatory mechanisms (Factor D); and

(e) Other natural or manmade factors affecting its continued existence (Factor E).

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to, or are reasonably likely to, affect individuals of a species negatively. The term “threat” includes actions or conditions that have a direct impact on individuals (direct impacts), as well as those that affect individuals through alteration of their habitat or required resources (stressors). The term “threat” may encompass—either together or separately—the source of the action or condition, or the action or condition itself. However, the mere identification of any threat(s) may not be sufficient to compel a finding that the information in the petition is substantial information indicating that the petitioned action may be warranted. The information presented in the petition must include evidence sufficient to suggest that these threats may be affecting the species to the point that the species may meet the definition of an endangered species or threatened species under the Act.

If we find that a petition presents such information, our subsequent status review will evaluate all identified threats by considering the individual-, population-, and species-level effects and the expected response by the species. We will evaluate individual threats and their expected effects on the species, then analyze the cumulative effect of the threats on the species as a whole. We also consider the cumulative effect of the threats in light of those actions and conditions that are expected to have positive effects on the species—such as any existing regulatory mechanisms or conservation efforts that may ameliorate threats. It is only after conducting this cumulative analysis of threats and the actions that may ameliorate them, and the expected effect on the species now and in the foreseeable future, that we can determine whether the species meets the definition of an endangered species or threatened species under the Act.

If we find that a petition presents substantial scientific or commercial information indicating that the petitioned action may be warranted, the Act requires that we promptly commence a review of the status of the species, and we will subsequently complete a status review in accordance with our prioritization methodology for 12-month findings (81 FR 49248; July 27, 2016).

We note that designating critical habitat is not a petitionable action under the Act. Petitions to designate critical habitat (for species without existing critical habitat) are reviewed under the Administrative Procedure Act and are not addressed in this finding (see 50 CFR 424.14(j)). To the maximum extent prudent and determinable, any proposed critical habitat will be addressed concurrently with a proposed rule to list a species, if applicable.

Summaries of Petition Findings

The petition findings contained in this document are listed in the table below, and the basis for each finding, along with supporting information, is available on https://www.regulations.gov under the appropriate docket number.

Table of Internet Search Information for Status Reviews for Four Species Petitioned for Federal Listing
Common name | Docket No. | URL to docket on https://www.regulations.gov
Common hippopotamus | FWS-HQ-ES-2022-0158 | https://www.regulations.gov/FWS-HQ-ES-2022-0158.
Morro Bay polyphyllan scarab beetle | FWS-R8-ES-2022-0159 | https://www.regulations.gov/FWS-R8-ES-2022-0159.
Inyo rock daisy | FWS-R8-ES-2022-0160 | https://www.regulations.gov/FWS-R8-ES-2022-0160.
Roughhead shiner | FWS-R5-ES-2022-0161 | https://www.regulations.gov/FWS-R5-ES-2022-0161.

Evaluation of a Petition To List the Common Hippopotamus

Species and Range

The common hippopotamus (Hippopotamus amphibius). Historical range: Algeria, Angola, Benin, Botswana, Burkina Faso, Burundi, Cameroon, Central African Republic, Chad, Congo, Democratic Republic of the Congo, Côte d'Ivoire, Egypt, Equatorial Guinea, Eritrea, Ethiopia, Gabon, Gambia, Ghana, Guinea, Guinea-Bissau, Kenya, Liberia, Malawi, Mali, Mauritania, Mozambique, Namibia, Niger, Nigeria, Rwanda, Senegal, Sierra Leone, Somalia, South Africa, South Sudan, Sudan, Eswatini (Swaziland), Tanzania, Togo, Uganda, Zambia, Zimbabwe. Current range: Hippos are extant in the historical range states listed with the exceptions of Algeria, Egypt, Liberia, and Mauritania where they are regionally extirpated. It is unknown if they still occur in Sudan.

Petition History

On March 23, 2022, we received a petition from The Humane Society of the United States, Humane Society International, Humane Society Legislative Fund, and Center for Biological Diversity, requesting that the common hippopotamus be listed as an endangered or a threatened species under the Act. The petition clearly identified itself as such and included the requisite identification information for the petitioner, required at 50 CFR 424.14(c). This finding addresses the petition.

Evaluation of Information

The petitioners provided credible information indicating potential threats to common hippopotamus populations from habitat loss (Factor A) due to land conversion for agricultural and human settlements, the resulting demand for irrigation and water, climate change impacts, and war. The petitioners provided information that indicates the threats under Factor A are negatively impacting common hippopotamus populations in much of the species' range, and this, in combination with the species' ecology, makes the common hippopotamus particularly vulnerable to habitat loss, which may be threatening the species. The petition provides information on additional threats from legal international trade, poaching, disease, predation, and traditional and medicinal use of hippopotamus parts that we will investigate further during our full status review.

Finding

We reviewed the petition, sources cited in the petition, and other readily available information. We considered the factors under section 4(a)(1) of the Act and assessed the effect that the threats identified within the factors—as potentially ameliorated or exacerbated by any existing regulatory mechanisms or conservation efforts—may have on the species now and in the foreseeable future. Based on our review of the petition and sources cited in the petition, we find that the petition presents substantial scientific or commercial information indicating that listing the common hippopotamus (Hippopotamus amphibius) under the Act may be warranted due to potential threats associated with habitat loss and degradation due to land conversion and urbanization, demand for irrigation and water, climate change, and war (Factor A). The petitioners also presented information suggesting overutilization from legal international trade and poaching (Factor B), disease and predation (Factor C), and traditional and medicinal use of hippopotamus parts (Factor E) may be threats to the common hippopotamus and that existing regulatory mechanisms, particularly as they pertain to trade and poaching, may be inadequate to address the impacts of these threats (Factor D). We will fully evaluate these potential threats during our 12-month status review, pursuant to the Act's requirement to review the best scientific and commercial information available when making that finding.

The basis for our finding on this petition, and other information regarding our review of the petition, can be found as an appendix at https://www.regulations.gov under Docket No. FWS-HQ-ES-2022-0158 under the Supporting Documents section.

Evaluation of a Petition To List the Morro Bay Polyphyllan Scarab Beetle

Species and Range

Morro Bay polyphyllan scarab beetle (Polyphylla morroensis); San Luis Obispo County, California.

Petition History

On January 7, 2022, we received a petition from Michael Walgren, a resident of San Luis Obispo County, California, requesting that the Morro Bay polyphyllan scarab beetle be listed as a threatened species under the Act. The petition clearly identified itself as such and included the requisite identification information for the petitioner, required at 50 CFR 424.14(c). This finding addresses the petition.

Evaluation of Information

The petitioner provided credible information indicating that urban development is a threat to the Morro Bay polyphyllan scarab beetle, and there is substantial information related to the effects of urban development indicating that the petitioned action may be warranted (Factor A). Further, the petition claims that future development as currently proposed (Jodi McGraw Consulting 2019, entire; U.S. Fish and Wildlife Service 2019, entire) would be a threat to the species, as urban development and habitat loss would increase (Factor A). The petition thus presents substantial information related to the current and future effects of urban development (Factor A), indicating that the petitioned action may be warranted.

Finding

We reviewed the petition, sources cited in the petition, and other readily available information. We considered the factors under section 4(a)(1) of the Act and assessed the effect that the threats identified within the factors—as may be ameliorated or exacerbated by any existing regulatory mechanisms or conservation efforts—may have on the species now and in the foreseeable future. Based on our review of the petition and readily available information regarding Factor A, we find that the petition presents substantial scientific or commercial information indicating that listing the Morro Bay polyphyllan scarab beetle (Polyphylla morroensis) as a threatened or endangered species may be warranted. The petitioner also presented information suggesting lights and landscaping may be threats to the Morro Bay polyphyllan scarab beetle (Walgren 2022b, pp. 5-7). The Service will fully evaluate these and all other potential threats, including the inadequacy of existing regulatory mechanisms (Factor D), during our 12-month status review, pursuant to the Act's requirement to review the best available scientific information when making that finding.

The basis for our finding on this petition, and other information regarding our review of the petition, can be found as an appendix at http://www.regulations.gov under Docket No. FWS-R8-ES-2022-0159 under the Supporting Documents section.

Evaluation of a Petition To List Inyo Rock Daisy

Species and Range

Inyo rock daisy (Perityle inyoensis; synonym Laphamia inyoensis). Historical range: southern Inyo Mountains, Inyo County, California. Current range: southern Inyo Mountains, Inyo County, California.

Petition History

On February 2, 2022, we received a petition with the same date from Maria Jesus, the Center for Biological Diversity, and the California Native Plant Society, requesting that Inyo rock daisy be listed as an endangered or threatened species and that critical habitat be designated for this species under the Act. The petition clearly identified itself as such and included the requisite identification information for the petitioner, required at 50 CFR 424.14(c). This finding addresses the petition.

Evaluation of Information

We reviewed the petition, sources cited in the petition, and other readily available information in our files. The petitioned entity is Inyo rock daisy (Perityle inyoensis), which occurs in the southern Inyo Mountains of Inyo County, California. This plant species is recognized in the taxonomic literature. The petitioners request that we list Inyo rock daisy as an endangered or threatened species.

We find that the petition provides substantial scientific or commercial information indicating that the petitioned action may be warranted due to potential threats from mining and development due to habitat loss and damage, invasive plant species due to competition, and climate change because of increased water stress and range shifts. We will fully evaluate these potential threats during our 12-month status review of the species.

Finding

We reviewed the petition, sources cited in the petition, and other readily available information. We considered the factors under section 4(a)(1) of the Act and assessed the effect that the threats identified within the factors—as may be ameliorated or exacerbated by any existing regulatory mechanisms or conservation efforts—may have on the species now and in the foreseeable future. Based on our review of the petition and readily available information regarding mining (Factor A), development (Factor A), invasive plant species (Factor E), and climate change (Factor E), we find that the petition presents substantial scientific or commercial information indicating that the petitioned action to list the Inyo rock daisy (Perityle inyoensis) as an endangered or threatened species may be warranted. The petitioners also presented information suggesting that genetic swamping and expected self-incompatibility, as the number of individuals decrease limiting reproduction, may be threats to Inyo rock daisy. We will fully evaluate these potential threats during our 12-month status review, pursuant to the Act's requirement to review the best available scientific information when making that finding.

The basis for our finding on this petition, and other information regarding our review of the petition, can be found as an appendix at https://www.regulations.gov under Docket No. FWS-R8-ES-2022-0160 under the Supporting Documents section.

Evaluation of a Petition To List the Roughhead Shiner

Species and Range

The roughhead shiner (Notropis semperasper) is a small, olive-colored minnow named for the distinctive bumps on its head, that historically and currently lives in the James River watershed in Virginia.

Petition History

On March 25, 2022, we received a petition from the Center for Biological Diversity, requesting that the roughhead shiner be listed as an endangered or threatened species and critical habitat be designated for this species under the Act. The petition clearly identified itself as such and included the requisite identification information for the petitioner, required at 50 CFR 424.14(c). This finding addresses the petition.

Evaluation of Information

After thorough examination of the petition, we find that the petitioner provided credible information indicating past and current threats to individuals of the species due to other natural or humanmade factors. Under Factor A, the petition presents citations demonstrating that habitat modification from urbanization and forest management activities may degrade water quality to the point where it negatively impacts the species. Under Factor E, the petition presents citations demonstrating that the introduced nonnative telescope shiner (Notropis telescopus) may outcompete the roughhead shiner and cause extirpations of the roughhead shiner at those sites.

Finding

We reviewed the petition, sources cited in the petition, and other readily available information. We considered the credible information that the petition provided regarding effects of the threats that fall within the factors under the Act's section 4(a)(1) as potentially ameliorated or exacerbated by any existing regulatory mechanisms or conservation efforts. Based on our review of the petition and readily available information regarding habitat modification from siltation and/or contamination (Factor A), and competition from the introduced telescope shiner (Factor E), we find that the petition presents substantial scientific or commercial information indicating that listing the roughhead shiner (Notropis semperasper) as an endangered or threatened species may be warranted. We will fully evaluate this potential threat during our 12-month status review, pursuant to the Act's requirement to review the best available scientific and commercial information when making that finding.

The basis for our finding on this petition, and other information regarding our review of the petition, can be found as an appendix at https://www.regulations.gov under Docket No. FWS-R5-ES-2022-0161 under the Supporting Documents section.

Conclusion

On the basis of our evaluation of the information presented in the petitions under section 4(b)(3)(A) of the Act, we have determined that the petitions summarized above for the common hippopotamus, Morro Bay polyphyllan scarab beetle, Inyo rock daisy, and roughhead shiner present substantial scientific or commercial information indicating that the petitioned actions may be warranted. We are, therefore, initiating status reviews of these species to determine whether the actions are warranted under the Act. At the conclusion of the status reviews, we will issue findings, in accordance with section 4(b)(3)(B) of the Act, as to whether the petitioned actions are not warranted, warranted, or warranted but precluded by pending proposals to determine whether any species is an endangered species or a threatened species.

Authors

The primary authors of this document are staff members of the Ecological Services Program, U.S. Fish and Wildlife Service.

Authority

The authority for these actions is the Endangered Species Act of 1973, as amended (16 U.S.C. 1531 et seq.).

Signed:
Martha Williams,
Director, U.S. Fish and Wildlife Service.

[FR Doc. 2023-05610 Filed 3-20-23; 8:45 am]

BILLING CODE 4333-15-P